DEPARTMENT OF HEALTH AND HUMAN SERVICES

Centers for Disease Control and Prevention

[30Day-19-19AXA]

Agency Forms Undergoing Paperwork Reduction Act Review

In accordance with the Paperwork Reduction Act of 1995, the Centers for Disease Control and Prevention (CDC) has submitted the information collection request titled “Annual Reporting of the Rape Prevention and Education (RPE) Program: CE19-1902 Cooperative Agreement” to the Office of Management and Budget (OMB) for review and approval. CDC previously published a “Proposed Data Collection Submitted for Public Comment and Recommendations” notice on June 5, 2019 to obtain comments from the public and affected agencies. One public comment public comment was received. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Annual Reporting of the Rape Prevention and Education (RPE) Program: CE19-1902 Cooperative Agreement—New—National Center for Injury Prevention and Control (NCIPC), Centers for Disease Control and Prevention (CDC).

Background and Brief Description

CDC's Division of Violence Prevention (DVP) provides national leadership in prevention of sexual violence (SV) perpetration and victimization before it begins (i.e., primary prevention). DVP administers the RPE Program, which provides funding to health departments in all 50 states, the District of Columbia (DC), Puerto Rico, Guam, the U.S. Virgin Islands, and the Commonwealth of Northern Mariana Islands. The CDC seeks OMB approval for three years to collect information related to implementation and outcomes annually from recipients funded under the Rape Prevention and Education (RPE): Using The Best Available Evidence for Sexual Violence Prevention cooperative agreement.

RPE Program recipients or designated delegates will submit data annually into the online data system, DVP Partners Portal. Recipients will monitor and report progress on their goals, objectives, and activities, as well as relevant information on the implementation of their prevention strategies, outcomes, evaluation, and state action plan.

Information to be collected will provide crucial data for program performance monitoring. Information collected will allow CDC to help ensure consistency in documenting, enhancing accountability of the use of federal funds, providing timely program reports and responses to information requests, such as Congressional requests mandated by the authorizing legislation, improve real-time communications between CDC and RPE recipients, and strengthening CDC's capacity to provide responsive data-driven technical assistance and to monitor and evaluate recipients' progress and performance.

Submission of the Annual Progress Report is required for cooperative agreement grantees. The total estimated annualized burden hours are 440. There is no cost to respondents other than their time.

Estimated Annualized Burden Hours
Type of respondents | Form name | Number of respondents | Number of responses per respondent | Average burden per response (in hours)
RPE-funded Health Departments (State, DC, and Territories) and their Designated Delegates | Annual Reporting—Initial Population Annual Reporting—Subsequent Reporting | 55 55 | 1 2 | 4 2

Jeffrey M. Zirger,
Lead, Information Collection Review Office, Office of Scientific Integrity, Office of Science, Centers for Disease Control and Prevention.

[FR Doc. 2019-21167 Filed 9-30-19; 8:45 am]

BILLING CODE 4163-19-P